DEPARTMENT OF AGRICULTURE

Rural Utilities Service

[Docket # RUS-24-AGENCY-0030]

Notice of Revision of a Currently Approved Information Collection

AGENCY: Rural Utilities Service, USDA.

ACTION: Notice, request for comments.

SUMMARY: In accordance with the Paperwork Reduction Act of 1995, the United States Department of Agriculture's Rural Utilities Service (RUS) invites comments on this revision to a currently approved information collection package for its Technical Assistance Programs, for which approval from the Office of Management and Budget (OMB) will be requested.

DATES: Comments on this notice must be received by November 15, 2024.

FOR FURTHER INFORMATION CONTACT: Adyam Negasi, RD Innovation Center—Regulations Management Division, U.S. Department of Agriculture, 1400 Independence Ave. SW, Washington, DC 20250; Tel: 202-221-9298; Email: Adyam.Negasi@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection package that RUS is submitting to OMB for renewal and approval.

Comments are invited on: (a) whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent through the Federal eRulemaking Portal, regulations.gov. In the “Search for dockets and documents on agency actions” box enter the Docket No. RUS-24-AGENCY-0030 and click the “Search” button. From the search results: click on or locate the document title and select the “Comment” button. To submit a comment: Insert comments under the “Comment” title. Information on using regulations.gov, including instructions for accessing documents, submitting comments, and viewing the docket after the close of the comment period, is available through the site's “FAQ” link.

All comments will be available for public inspection online at the Federal eRulemaking Portal (https://www.regulations.gov).

Title: Technical Assistance Programs.

OMB Control Number: 0572-0112.

Type of Request: Revision of a currently approved collection.

Abstract: RUS is authorized by section 306 of the Consolidated Farm and Rural Development Act (7 U.S.C. 1926) to make loans to public agencies, American Indian tribes, and nonprofit corporations to fund the development of drinking water, wastewater, and solid waste disposal facilities in rural areas with populations of up to 10,000 residents. Under the CONACT, 7 U.S.C. 1925(a), as amended, section 306(a) (14) (A) authorizes Technical Assistance and Training grants, and 7 U.S.C. 1932(b), section 310B authorizes Solid Waste Management grants. Grants are made for 100 percent of the cost of assistance. The Technical Assistance and Training Grants and Solid Waste Management Grants programs are administered through 7 CFR part 1775.

Estimate of Burden: Public reporting for this collection of information is estimated to average 5.053 hours per response.

Respondents: Public Bodies, non-profits, federally recognized tribes, academic institutions.

Estimated Number of Respondents: 66.

Estimated Number of Responses per Respondent: 16.67.

Estimated Total Annual Burden on Respondents: $307,630.

Copies of this information collection can be obtained from Adyam Negasi, RD Innovation Center—Regulations Management Division, at 202-221-9298 or adyam.negasi@usda.gov.

All responses to this notice will be summarized and included in the request for OMB approval. All comments will also become a matter of public record.

Andrew Berke,
Administrator, Rural Utilities Service.

[FR Doc. 2024-20899 Filed 9-13-24; 8:45 am]

BILLING CODE 3410-15-P